ENVIRONMENTAL PROTECTION AGENCY

[EPA-HQ-OECA-2006-0447; FRL-8271-6]

Agency Information Collection Activities; Submission to OMB for Review and Approval; Comment Request; NESHAP for Iron and Steel Foundries (Renewal) EPA ICR Number 2096.03, OMB Control Number 2060-0543

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before February 21, 2007.

ADDRESSES: Submit your comments, referencing docket ID number EPA-HQ-OECA-2006-0447, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On June 21, 2006 (71 FR 35652), EPA sought comments on this ICR pursuant to 5 CFR 1320.8(d). EPA received no comments. Any additional comments on this ICR should be submitted to EPA and OMB within 30 days of this notice.

EPA has established a public docket for this ICR under docket ID number EPA-HQ-OECA-2006-0447, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to http://www.regulations.gov.

Title: NESHAP for the Iron and Steel Foundries (Renewal).

ICR Numbers: EPA ICR Number 2096.03, OMB Control Number 2060-0543.

ICR Status: This ICR is scheduled to expire on January 31, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards for Hazardous Air Pollutants (NESHAP) for Iron and Steel Foundries (40 CFR part 63, subpart EEEEE) were proposed on December 12, 2002, (67 FR 78274), and promulgated on April 22, 2004, (69 FR 21905). The final rule was amended on May 20, 2005 (70 FR 29400). Entities potentially affected by this rule are owners or operators of new and existing iron and steel foundries that are major sources of hazardous air pollutant (HAP) emissions. The rule applies to emissions from metal melting furnaces, scrap preheaters, pouring areas, pouring stations, automated conveyor and pallet cooling lines, automated shakeout lines, and mold and core making lines, and fugitive emissions from foundry operations. This information is being collected to assure compliance with 40 CFR part 63, subpart EEEEE.

Owners or operators of the affected facilities described must make one-time-only notifications including: Notification of any physical or operational change to an existing facility which may increase the regulated pollutant emission rate; notification of the initial performance test, including information necessary to determine the conditions of the performance test; and performance test measurements and results. All reports are sent to the delegated State or local authority. In the event that there is no such delegated authority, the reports are sent directly to the EPA regional office. Owners or operators must maintain records of initial and subsequent compliance tests for lead compounds, and identify the date, time, cause, and corrective actions taken for all bag leak detection alarms. Records of continuous monitoring devices, including parametric monitoring, must be maintained and reported semiannually. Owners or operators are also required to maintain records of the occurrence and duration of any startup, shutdown, or malfunction in the operation of an affected facility, or any period during which the monitoring system is inoperative. Any owner or operator subject to the provisions of this part shall maintain a file of these measurements, and retain the records for at least five years following the date of such measurements and records. At a minimum, records of the previous two years must be maintained on site.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 151 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of iron and steel foundries.

Estimated Number of Respondents: 98.

Frequency of Response: Initially, on occasion, and semiannually.

Estimated Total Annual Hour Burden: 29,747 hours.

Estimated Costs: $2,919,524, which includes $0 annualized Capital Startup costs, $400,060 annualized Operating & Maintenance Costs (O&M), and $2,519,464 annualized Labor Costs.

Changes in the Estimates: The increase in burden of 7,422 hours from the most recently approved ICR is due primarily to the inclusion of burden associated with existing sources commencing to conduct periodic scrap inspections and submitting periodic compliance reports. The burden associated with these activities has offset any burden associated with sources complying with the initial rule requirements (i.e., install the required emissions control and monitoring equipment, conduct initial performance tests, prepare the required written plans, and provide the one-time notifications), which was the basis for the burden calculation in the previous ICR.

The increase of $127,460 in the total annualized cost is primarily due to an increase on the burden associated with operations and maintenance (O&M) of monitors. The O&M costs in the renewal of this ICR renewal has offset the capital costs associated with installation of the necessary monitoring equipment, which was the basis of the total annualized cost calculation in the previous ICR.

Dated: January 11, 2007.
Oscar Morales,
Director, Collection Strategies Division.

[FR Doc. E7-825 Filed 1-19-07; 8:45 am]

BILLING CODE 6560-50-P